DEPARTMENT OF THE INTERIOR

National Park Service

Dog Management Plan and Environmental Impact Statement, Golden Gate National Recreation Area, Marin, San Francisco and San Mateo Counties, CA; Notice of Extension of Scoping Period

SUMMARY: In accordance with section 102(2)(C) of the National Environmental Policy Act (40 U.S.C. 4321 et seq.), the National Park Service (NPS) is undertaking concurrent negotiated rulemaking and conservation planning-environmental impact analysis efforts to identify and evaluate alternatives for clear and enforceable guidelines to determine the manner and extent of dog-walking use in appropriate areas of the Golden Gate National Recreation Area (GGNRA). As announced February 22, 2006 in the Federal Register (V71/N35/PP9147-48), the NPS is preparing an environmental impact statement for a GGNRA Dog Management Plan (plan/EIS) and has initiated a public scoping process to aid preparation of the plan/EIS.

The public scoping period is being extended from the original March 24, 2006 deadline to April 24, 2006.

DATES: Comments on issues and concerns and any environmental information relevant to the preparation of an Environmental Impact Statement for a Dog Management Plan will be accepted through April 24, 2006. All written comments must be transmitted or postmarked not later than 11:59 p.m. Mountain Time on Monday, April 24, 2006. Respondents to the original Notice need not re-submit their comments.

SUPPLEMENTARY INFORMATION: Interested individuals, organizations, and agencies that wish to comment on the scope of this plan/EIS should submit written comments via one of the two following options: (1) Online through the Planning, Environment and Public Comment Web site (http://parkplanning.nps.gov); select Golden Gate National Recreation Area, click on “EIS/Dog Management Plan for GGNRA” and follow the instructions on the website; or (2) mail written comments directly to Superintendent, GGNRA, Fort Mason, Building 201, San Francisco, CA 94123.

Please note that names and addresses of people who comment become part of the public record. If individuals commenting request that their name or/and address be withheld from public disclosure, it will be honored to the extent allowable by law. Such requests must be stated prominently in the beginning of the comments. There also may be circumstances wherein the NPS will withhold from the record a respondent's identity, as allowable by law. As always: The NPS will make available to public inspection all submissions from organizations or businesses and from persons identifying themselves as representatives or officials of organizations and businesses; and, anonymous comments may not be considered.

A public scoping Newsletter, providing a preliminary synopsis of the project status, will be distributed in early March. In addition, two public scoping meetings are scheduled to be held on April 4 (in Sausalito) and April 5 (in San Francisco); both will occur from 4-7:30 pm. For details on meeting location, to request being added to the project mailing list, or for other current information updates, please contact the GGNRA Negotiated Rulemaking Information Line at (415) 561-4728.

As a delegated EIS, the official responsible for approval of the Record of Decision is the NPS Regional Director, Pacific West Region; subsequently the official who will be responsible for implementation is the Superintendent, Golden Gate National Recreation Area.

Dated: February 23, 2006.
Jonathan B. Jarvis,
Regional Director, Pacific West Region.

[FR Doc. E6-4544 Filed 3-28-06; 8:45 am]

BILLING CODE 4312-FN-P